DEPARTMENT OF COMMERCE

[Docket No.: 020528133-2133-01]

Privacy Act of 1974: System of Records

AGENCY: Department of Commerce.

ACTION: Notice of amendment of Privacy Act System of Records; Commerce/Census System 5: Population and Housing Census Records of the 1960 and Subsequent Censuses.

SUMMARY: In accordance with the Privacy Act (5 U.S.C. 552a(e) (4) and (11), the Department of Commerce is issuing notice of our intent to amend the system of records entitled Commerce/Census-5, “Population and Housing Census Records of the 1960 and Subsequent Censuses.” We invite public comment on the change to the system of records announced in this notice.

DATES: Effective Date: The system will become effective without further notice on August 2, 2002, unless comments dictate otherwise. Comment Date: To be considered, written comments must be submitted on or before August 2, 2002.

ADDRESSES: Comments may be mailed to Gerald W. Gates, Chief, Policy Office, U.S. Census Bureau, Washington, DC 20233.

SUPPLEMENTARY INFORMATION: Pursuant to Title 13 of the United States Code, Section 141, the U.S. Census Bureau has conducted the 2000 Census. The amendment updates administrative information concerning the locations of the system files, the categories of individuals covered by the system, the categories of records in the system, the purpose of the system of records, retrievability , safeguards, and the disposal of the records in the system in addition to other minor administrative updates. Accordingly, the Population and Housing Census Records of the 1960 and Subsequent Censuses system notice originally published at 45 FR 82105, December 12, 1980, is amended by the addition of the following information updates.

The Department of Commerce finds no probable or potential effect of the proposed change to the system of records on the privacy of individuals. Respondent data including personally identifying data are captured as images suitable for computer processing. Images are scheduled for permanent retention. Original data sources are destroyed, according to the disposal procedures for Title 13 (“census confidential”) records, after confirmation of successful data capture and data transmission to headquarters. The Individual Census Record File (ICRF) represents a unified record of individual responses, including all names and other written entries provided by the respondent, and all associated address and geographic information for each housing unit or person living in group quarters. The ICRF is scheduled for permanent retention.

Accordingly, the Population and Housing Census Records of the 1960 and Subsequent Censuses is amended by the following updates:

COMMERCE/CENSUS-5

System Name:

Delete “1960 and Subsequent Censuses” and insert “2000 Census.”

System Location:

Delete “Bureau of the Census 1201 East 10th Street, Jeffersonville, Indiana 47103”; Add Bureau of the Census, Bowie Computer Center, 17101 Melford Boulevard, Bowie, Maryland 20715.”

Categories of individuals covered by the system:

Delete “Censuses”; Insert “Census”; Delete “taken” and insert “conducted”; Delete “1960 and later”; Add “2000”.

Categories of records in the system:

Delete paragraph after “information”; Add “That may include name, address, telephone number, age, sex, relationships, race, Hispanic origin, and housing tenure. About one in six records also contain additional population information including, as applicable: Marital status; income and employment (income; labor force status; industry, occupation, and class of worker; work status last year; and veteran status); education (school enrollment and educational attainment); origins and language (including ancestry; place of birth, citizenship, and year of entry; and language spoken at home); residence five years ago; disability; grandparents as caregivers; physical characteristics of housing (including year built, units in structure, number of rooms, number of bedrooms, kitchen facilities, plumbing facilities, telephone service availability, heating fuel, year moved to unit, and farm residence); and financial characteristics of housing (including value, selected monthly owner costs, and rent). As a part of the 2000 Census test and experimentation program, Social Security numbers were requested from members of 20,000 randomly selected households. These are maintained with the above information for those households that provided them. Provision was voluntary.”

Authority for maintenance of the system:*

Purpose(s):

Add “The purpose of this system of records is to create longitudinal linkages, enhance survey responses, and perform quality control studies.”

Routine uses of records maintained in the system:

Insert “These records are maintained and used solely for statistical purposes and are confidential under Title 13 of the United States Code, Sections 8, 9, and 214”

Policies and practices for storing, retrieving, accessing, retaining, and disposing of records in the system:

Storage:

Delete “Microform, paper copy” ; Delete punch cards'; After “magnetic tape” add on-line disk storage, CD-ROMs/DVD, server, and hard disk.”

Retrievability:

After “Information” delete to the end; After “Information” insert “may only be retrieved by address.”

Safeguards:

After “Employees are” delete “also”. After “advised of the” delete “regulations issued pursuant to Title 13, U.S.C. governing the”. After “data.” add “Computer systems processing sensitive information meet the basic security requirements for discretionary access control as defined by DOD 5200.28 STD, commonly referred to as C2-level security. This level of security controls through use of specific security features, provides access to information such that only properly authorized individuals, or processes operating on their behalf, will have access to read, write, create, or delete information.”

Retention and disposal:

Delete “Records are retained in accordance with the unit's Record Control Schedule.” Add: “Respondent data including personally identifying data are captured as images suitable for computer processing. Images are scheduled for permanent retention. Original data sources are destroyed, according to the disposal procedures for Title 13 (“census confidential”) records, after confirmation of successful data capture and data transmission to headquarters. The Individual Census Record File (ICRF) represents a unified record of individual responses, including all names and other written entries provided by the respondent, and all associated address and geographic information for each housing unit or person living in group quarters. The ICRF is scheduled for permanent retention. The computer systems processing this information meet the basic security requirements for discretionary access control as defined by DOD 5200.28 STD, commonly referred to as C2-level security.

Systems manager(s) and address:

Delete “Administration”; add “Decennial Census”.

Systems exempted from certain provisions of the Act:

Insert “system of” between “this” and “record” in the first sentence and change “record” to “records”.

*Indicates that there are no changes to that paragraph of the notice.

Dated: June 27, 2002.
Brenda S. Dolan,
Freedom of Information/Privacy Act Officer, Department of Commerce.

[FR Doc. 02-16723 Filed 7-2-02; 8:45 am]

BILLING CODE 3510-07-P